COMMISSION ON CIVIL RIGHTS

Agenda and Notice of Public Meetings of the South Dakota Advisory Committee

AGENCY: Commission on Civil Rights.

ACTION: Announcement of public meetings.

SUMMARY: Notice is hereby given, pursuant to the provisions of the rules and regulations of the U.S. Commission on Civil Rights (Commission), and the Federal Advisory Committee Act (FACA), that the South Dakota State Advisory Committee to the Commission will hold virtual meetings on Wednesday, January 20, 2021; Wednesday, February 17, 2021; and Wednesday, March 17, 2021 from 3:00 p.m.-4:00 p.m. (CT). The purpose of the meetings is to discuss testimony heard related to the Committee's topic on maternal health disparities of Native American women in South Dakota.

DATES: These meetings will be held from 3:00 p.m. to 4:00 p.m. (CT) on 1/20/21, 2/17/21, and 3/17/21. The access information for all three meetings is the same:

• To join by web conference: https://tinyurl.com/y7heztq9

• To join by phone only, dial 1-800-360-9505; Access code: 199 118 9479

FOR FURTHER INFORMATION CONTACT: Mallory Trachtenberg at mtrachtenberg@usccr.gov or by phone at (202) 809-9618.

SUPPLEMENTARY INFORMATION: These meetings are available to the public through the Webex links above. If joining only via phone, callers can expect to incur charges for calls they initiate over wireless lines, and the Commission will not refund any incurred charges. Individuals who are deaf, deafblind and hard of hearing. may also follow the proceedings by first calling the Federal Relay Service at 1-800-877-8339 and providing the Service with the call-in number found through registering at the web link provided for each meeting.

Members of the public are entitled to make comments during the open period at the end of each meeting. Members of the public may also submit written comments; the comments must be received in the Regional Programs Unit within 30 days following the respective meeting. Written comments may be emailed to Mallory Trachtenberg at mtrachtenberg@usccr.gov. Persons who desire additional information may contact the Regional Programs Unit at (202) 809-9618. Records and documents discussed during the meeting will be available for public viewing as they become available at www.facadatabase.gov. Persons interested in the work of this advisory committee are advised to go to the Commission's website, www.usccr.gov, or to contact the Regional Programs Unit at the above phone number or email address.

Agenda: Wednesday, January 20, 2021; Wednesday, February 17, 2021; and Wednesday, March 17, 2021 from 3:00 p.m.-4:00 p.m. (CT)

I. Welcome and Roll Call

II. Announcements and Updates

III. Approval of Minutes

IV. Discussion: Maternal Health Disparities of Native American Women

V. Public Comment

VI. Next Steps

VII. Adjournment

Dated: January 14, 2021.
David Mussatt,
Supervisory Chief, Regional Programs Unit.

[FR Doc. 2021-01210 Filed 1-19-21; 8:45 am]

BILLING CODE P